POSTAL SERVICE

39 CFR Part 20

Priority Mail® Large Flat-Rate Box—International

AGENCY: Postal Service™.

ACTION: Final rule.

SUMMARY: This final rule revises the Mailing Standards of the United States Postal Service, International Mail Manual (IMM®), to add a new Priority Mail® Large Flat-Rate Box that has been approved by the Board of Governors of the United States Postal Service for domestic and international Priority Mail shipments.

The new Priority Mail large flat-rate box is approximately 50 percent larger than the regular flat-rate boxes currently available. Two prices will apply to the large flat-rate box when mailed to international destinations:

• $29.95 for Priority Mail International™ service to Canada and Mexico.

• $49.95 for Priority Mail International service to all other countries.

The larger flat-rate box is identified by the words “Large Flat-Rate Box” printed on the packaging.

DATES: Effective Date: March 3, 2008.

FOR FURTHER INFORMATION CONTACT: Christy Bonning, 202-268-2108, or Garry Rodriguez, 202-268-7281, United States Postal Service.

SUPPLEMENTARY INFORMATION: The Postal Service first approved the domestic Priority Mail flat-rate box as an experiment more than three years ago. Board of Governors' Decision, Docket No. MC 2004-2 (October 29, 2004). Subsequently, a permanent classification for the flat-rate box was approved as part of the R2006-1 omnibus rate case. The use of Priority Mail flat-rate boxes for Priority Mail International shipments was adopted concurrently with the rate case.

The offering of a larger Priority Mail flat-rate box will enhance customer choice, convenience, and ease of use. Accordingly, the Postal Service offers a new Priority Mail large flat-rate box with a weight restriction of 20 pounds to international destinations. The dimensions are 12¼″ x 12¼″ x 6″ exterior, and 12″ x 12″ x 5½″ interior.

The new Priority Mail large flat-rate box will be available for order online at USPS.com and in most post offices nationwide.

The Postal Service adopts the following changes to Mailing Standards of the United States Postal Service, International Mail Manual (IMM), which is incorporated by reference in the Code of Federal Regulations. See 39 CFR part 20.

List of Subjects in 39 CFR Part 20

Foreign relations, International postal services.

Accordingly, 39 CFR part 20 is amended as follows:

PART 20—[AMENDED]

1. The authority citation for 39 CFR part 20 is revised to read as follows:

Authority: 5 U.S.C. 552(a); 39 U.S.C. 401, 404, 407, 408, 3632 and 3633.

2. Revise the following sections of Mailing Standards of the United States Postal Service, International Mail Manual (IMM), as follows:

2 Conditions for Mailing

* * * * *

230 Priority Mail International

* * * * *

[Revise heading of 232 as follows:]

232 Priority Mail International Flat-Rate Envelope

* * * * *

[Reverse section 233 in its entirety with sections 234 and 234.1. Delete 234.2 in its entirety. Renumber 234.3 through 234.5 as new 234.5 through 234.7.]

[Revise heading of renumbered 233 (old 234) as follows:]

233 Priority Mail International Flat-Rate Boxes

[Add a new 233.1 and renumber 233.1 (old 234.1) as 233.2.]

233.1 General

All mailable items that may be sent as Priority Mail International (see 231.1) may be sent in Priority Mail flat-rate boxes when the contents fit securely and are entirely confined within the box. The box flaps must be able to close within the normal folds.

A flat-rate box may be insured. See 320 and Individual Country Listings for insurance availability, limitations, and coverage. Registered Mail service is not available.

[Revise heading and text of renumbered 233.2 (old 234.1) as follows:]

233.2 Postage

The Priority Mail flat-rate boxes are charged flat rates. The price does not depend on the weight of the item. Postage is required for each piece. Exhibit 233.2 lists the rates for Priority Mail International flat-rate boxes.

[Revise heading and table of Exhibit 233.2 (old 234.1) as follows:]

Exhibit 233.2

Priority Mail International—Flat-Rate Boxes

International destination | Regular flat-rate box | Large flat-rate box
Canada & Mexico | $23.00 | $29.95
All other countries | 37.00 | 49.95

[In the Note of 233.2 keep only the first sentence; delete rest of text (sentences two through five).]

[Add new 233.3 as follows:]

233.3 Weight Limit

The weight limit for each flat-rate box is 20 pounds.

[Add new 233.4 as follows:]

233.4 Customs Forms Required

All Priority Mail International flat-rate boxes must bear a properly completed PS Form 2976-A.

234 Priority Mail International Parcels

[Add new 234.1 and renumber 234.1 through 234.3 as new 234.2 through 234.4.]

234.1 General

Prices for parcels not using a flat-rate box vary by weight and country rate group. See Individual Country Listings.

234.2 Indemnity

* * * * *

[Revise the second Note in 234.2 as follows:]

Note: Priority Mail parcels and flat-rate boxes may be insured, but not Priority Mail flat-rate envelopes (see 322).

234.3 Exclusions

* * * * *

234.4 Ordinary Priority Mail International Weight and Indemnity Limits

* * * * *

Neva R. Watson,
Attorney, Legislative.

[FR Doc. E8-1776 Filed 1-31-08; 8:45 am]

BILLING CODE 7710-12-P